DEPARTMENT OF HOMELAND SECURITY

U.S. Citizenship and Immigration Services

[CIS No. 2541-14; DHS Docket No. USCIS-2014-0004]

RIN 1615-ZB27

Extension and Redesignation of South Sudan for Temporary Protected Status

AGENCY: U.S. Citizenship and Immigration Services, Department of Homeland Security.

ACTION: Notice.

SUMMARY: Through this Notice, the Department of Homeland Security (DHS) announces that the Secretary of Homeland Security (Secretary) is extending the designation of South Sudan for Temporary Protected Status (TPS) for 18 months from November 3, 2014 through May 2, 2016, and redesignating South Sudan for TPS for 18 months, effective November 3, 2014 through May 2, 2016.

The extension allows currently eligible TPS beneficiaries to retain TPS through May 2, 2016, so long as they otherwise continue to meet the eligibility requirements for TPS. The redesignation of South Sudan allows additional individuals who have been continuously residing in the United States since September 2, 2014 to obtain TPS, if otherwise eligible. The Secretary has determined that an extension of the current designation and a redesignation of South Sudan for TPS are warranted because of the ongoing armed conflict and other extraordinary and temporary conditions that prompted the 2013 TPS redesignation have not only persisted, but have deteriorated. The ongoing armed conflict in South Sudan and other extraordinary and temporary conditions would pose a serious threat to the personal safety of South Sudanese nationals if they were required to return to their country.

Through this Notice, DHS also sets forth procedures necessary for nationals of South Sudan (or aliens having no nationality who last habitually resided in South Sudan) either to: (1) Re-register under the extension if they already have TPS and to apply for renewal of their Employment Authorization Documents (EADs) with U.S. Citizenship and Immigration Services (USCIS); or, (2) submit an initial registration application under the redesignation and apply for an EAD.

For individuals who have already been granted TPS under the 2011 original South Sudan designation or under the 2013 South Sudan redesignation, the 60-day re-registration period runs from September 2, 2014 through November 3, 2014. USCIS will issue new EADs with a May 2, 2016 expiration date to eligible South Sudan TPS beneficiaries who timely re-register and apply for EADs under this extension. Given the timeframes involved with processing TPS re-registration applications, DHS recognizes that not all re-registrants will receive new EADs before their current EADs expire on November 2, 2014. Accordingly, through this Notice, DHS automatically extends the validity of EADs issued under the TPS designation of South Sudan for 6 months, through May 2, 2015, and explains how TPS beneficiaries and their employers may determine which EADs are automatically extended and their impact on Employment Eligibility Verification (Form I-9) and E-Verify processes.

Under the redesignation, individuals who currently do not have TPS (or an initial TPS application pending) may submit an initial application during the 180-day initial registration period that runs from September 2, 2014 through March 2, 2015. In addition to demonstrating continuous residence in the United States since September 2, 2014 and meeting other eligibility criteria, initial applicants for TPS under this redesignation must demonstrate that they have been continuously physically present in the United States since November 3, 2014, the effective date of this redesignation of South Sudan, before USCIS may grant them TPS.

TPS applications that were filed during the 2013 South Sudan redesignation that remain pending on September 2, 2014 will be treated as initial applications under this 2014 redesignation. Therefore, individuals who have a pending South Sudan TPS application will not need to file a new Application for Temporary Protected Status (Form I-821). DHS provides additional instructions in this Notice for individuals whose TPS applications remain pending and who would like to obtain an EAD valid through May 2, 2016.

DATES: Extension of Designation of South Sudan for TPS: The 18-month extension of the TPS designation of South Sudan is effective November 3, 2014, and will remain in effect through May 2, 2016. The 60-day re-registration period runs from September 2, 2014 through November 3, 2014.

Redesignation of South Sudan for TPS: The redesignation of South Sudan for TPS is effective November 3, 2014, and will remain in effect through May 2, 2016, a period of 18 months. The 180-day initial registration period for new applicants under the South Sudan TPS redesignation runs from September 2, 2014 through March 2, 2015.

Further Information

• For further information on TPS, including guidance on the application process and additional information on eligibility, please visit the USCIS TPS Web page at http://www.uscis.gov/tps. You can find specific information about this extension of South Sudan for TPS by selecting “TPS Designated Country: South Sudan” from the menu on the left of the TPS Web page.

• You can also contact the TPS Operations Program Manager at the Family and Status Branch, Service Center Operations Directorate, U.S. Citizenship and Immigration Services, Department of Homeland Security, 20 Massachusetts Avenue NW., Washington, DC 20529-2060; or by phone at (202) 272-1533 (this is not a toll-free number). Note: The phone number provided here is solely for questions regarding this TPS Notice. It is not for individual case status inquires.

• Applicants seeking information about the status of their individual cases can check Case Status Online, available at the USCIS Web site at http://www.uscis.gov, or call the USCIS National Customer Service Center at 800-375-5283 (TTY 800-767-1833).

• Further information will also be available at local USCIS offices upon publication of this Notice.

SUPPLEMENTARY INFORMATION:

Table of Abbreviations

BIA—Board of Immigration Appeals

CPA—Comprehensive Peace Agreement

DHS—Department of Homeland Security

DOS—Department of State

EAD—Employment Authorization Document

FNC—Final Nonconfirmation

Government—U.S. Government

IJ—Immigration Judge

INA—Immigration and Nationality Act

OCHA—UN Office for the Coordination of Humanitarian Affairs

OSC—U.S. Department of Justice, Office of Special Counsel for Immigration-Related Unfair Employment Practices

RSS—Government of the Republic of South Sudan

SAVE—USCIS Systematic Alien Verification for Entitlements Program

Secretary—Secretary of Homeland Security

SPLM-A—Sudan People's Liberation Movement/Army

TNC—Tentative Nonconfirmation

TPS—Temporary Protected Status

TTY—Text Telephone

UN—United Nations

USCIS—U.S. Citizenship and Immigration Services

What is Temporary Protected Status (TPS)?

• TPS is a temporary immigration status granted to eligible nationals of a country designated for TPS under the Immigration and Nationality Act (INA), or to persons without nationality who last habitually resided in the designated country.

• During the TPS designation period, TPS beneficiaries are eligible to remain in the United States, may not be removed, and may obtain work authorization, so long as they continue to meet the requirements of TPS.

• TPS beneficiaries may also be granted travel authorization as a matter of discretion.

• The granting of TPS does not result in or lead to permanent resident status.

• When the Secretary terminates a country's TPS designation, beneficiaries return to the same immigration status they maintained before TPS, if any (unless that status has since expired or been terminated), or to any other lawfully obtained immigration status they received while registered for TPS.

When was South Sudan designated for TPS?

On October 13, 2011, the Secretary designated South Sudan for TPS, effective November 3, 2011, based on an ongoing armed conflict and extraordinary and temporary conditions within that country. See Designation of Republic of South Sudan for Temporary Protected Status, 76 FR 63629 (Oct. 13, 2011). In 2013, the Secretary both extended South Sudan's designation and redesignated South Sudan for TPS for 18 months through November 2, 2014. See Extension and Redesignation of South Sudan for Temporary Protected Status, 78 FR 1866 (Jan. 9, 2013). This announcement is the third designation of TPS for South Sudan and the first extension since the 2013 redesignation.

What authority does the Secretary of Homeland Security have to extend the designation of South Sudan for TPS?

Section 244(b)(1) of the INA, 8 U.S.C. 1254a(b)(1), authorizes the Secretary, after consultation with appropriate U.S. Government (Government) agencies, to designate a foreign state (or part thereof) for TPS if the Secretary finds that certain country conditions exist.¹ The Secretary may grant TPS to eligible nationals of that foreign state (or aliens having no nationality who last habitually resided in that state). See INA section 244(a)(1)(A), 8 U.S.C. 1254a(a)(1)(A).

¹ As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

At least 60 days before the expiration of a country's TPS designation or extension, the Secretary, after consultation with appropriate Government agencies, must review the conditions in a foreign state designated for TPS to determine whether the conditions for the TPS designation continue to be met. See INA section 244(b)(3)(A), 8 U.S.C. 1254a(b)(3)(A). If the Secretary determines that a foreign state continues to meet the conditions for TPS designation, the designation may be extended for an additional period of 6, 12 or 18 months. See INA section 244(b)(3)(C), 8 U.S.C. 1254a(b)(3)(C). If the Secretary determines that the foreign state no longer meets the conditions for TPS designation, the Secretary must terminate the designation. See INA section 244(b)(3)(B), 8 U.S.C. 1254a(b)(3)(B).

Why is the Secretary extending the TPS designation for South Sudan through May 2, 2016?

Over the past year, DHS and the Department of State (DOS) have continued to review conditions in South Sudan. Based on this review and after consulting with DOS, the Secretary has determined that an 18-month extension is warranted because the armed conflict and other extraordinary and temporary conditions that prompted the October 13, 2011 designation and the January 9, 2013 redesignation continue to exist.

What is the Secretary's authority to redesignate South Sudan for TPS?

In addition to extending an existing TPS designation, the Secretary, after consultation with appropriate Government agencies, may redesignate a country (or part thereof) for TPS. See section 244(b)(1) of the INA, 8 U.S.C. 1254a(b)(1); see also section 244(c)(1)(A)(i) of the INA, 8 U.S.C. 1254a(c)(1)(A)(i) (requiring that “the alien has been continuously physically present since the effective date of the most recent designation of the state”) (emphasis added). This is one of several instances in which the Secretary, and prior to the establishment of DHS, the Attorney General, has simultaneously extended a country's TPS designation and redesignated the country for TPS. See, e.g., Extension and Redesignation of Syria for Temporary Protected Status, 78 FR 36223 (June 17, 2013); Extension and Redesignation of Sudan for Temporary Protected Status, 78 FR 1872 (Jan. 9, 2013); Extension and Redesignation of Haiti for Temporary Protected Status, 76 FR 29000 (May 19, 2011); Extension of Designation and Redesignation of Liberia Under Temporary Protected Status Program, 62 FR 16608 (Apr. 7, 1997) (describing legal authority for redesignation of a country for TPS).

When the Secretary designates or redesignates a country for TPS, he also has the discretion to establish the date from which TPS applicants must demonstrate that they have been “continuously resid[ing]” in the United States. See section 244(c)(1)(A)(ii) of the INA, 8 U.S.C.S 1254a(c)(1)(A)(ii). The Secretary has the discretionary authority to determine the “continuous residence” date that he deems appropriate.

The Secretary has determined that the “continuous residence” date for applicants for TPS under the redesignation of South Sudan will be September 2, 2014. Initial applicants for TPS under this redesignation must also show they have been “continuously physically present” in the United States since November 3, 2014, which is the effective date of the Secretary's redesignation of South Sudan. See section 244(c)(1)(A)(i) of the INA, 8 U.S.C. 1254a(c)(1)(A)(i). For each initial TPS application filed under the redesignation, the final determination whether the applicant has met the “continuous physical presence” requirement cannot be made until November 3, 2014. USCIS, however, will issue EADs, as appropriate, during the registration period in accordance with 8 CFR 244.5(b).

Why is the Secretary extending the TPS designation for South Sudan and simultaneously redesignating South Sudan for TPS through May 2, 2016?

In November 2013, the United Nations (UN) Office of Coordination for Humanitarian Affairs (OCHA) reported that the situation in South Sudan remained fragile but had potential to improve. OCHA cited a number of positive developments during 2013, including a reduction in deaths and population displacement caused by violence, improved food security, and a decrease in refugees. However, by mid-December 2013, less than 1 month after OCHA released its report, political infighting within the government of the Republic of South Sudan (RSS) had set off a catastrophic chain of events that have plunged the country to the brink of civil war.

South Sudan seceded from Sudan in 2011 after more than two decades of civil war between the government in Khartoum and the Sudan People's Liberation Movement-Army (SPLM-A), which had been fighting for southern independence. The Comprehensive Peace Agreement (CPA), signed by both sides in January 2005, brought an official end to the war and provided a mechanism for peaceful separation of the two countries. However, issues related to security arrangements along the border, sharing of oil revenues, and the fate of the contested area of Abyei remain unresolved and have potential to threaten stability. In early August 2013, Sudan and South Sudan exchanged gunfire along the border in Teskuin, a border town claimed by both countries, and both countries have accused the other of supporting rebels in their territory. As of February 2014, several CPA issues lay unresolved. South Sudan's current internal conflict further threatens progress.

A myriad of factors contributes to the ongoing humanitarian crisis in South Sudan. Political and inter-communal violence caused civilian deaths, displacement of the population, and general instability. These events, coupled with floods, insufficient agricultural production, and high inflation due to the loss of oil revenues, exacerbated food insecurity in a region challenged by lack of infrastructure and poor accessibility.

Thousands of people have been killed as a result of inter-ethnic conflict in Jonglei in recent years. Inter-communal violence in Jonglei state continued and was exacerbated by a government anti-insurgency campaign against predominantly ethnic Murle rebels aligned with SPLM-A defector David Yau Yau. Human Rights Watch indicates that in 2013 during the campaign against the rebels, the SPLM-A committed atrocities, especially in ethnic Murle areas. Soldiers unlawfully targeted and killed Murle civilians and caused thousands to flee their homes out of fear of attack.

Conditions in South Sudan have become increasingly volatile and dangerous since December 15, 2013, when long-standing political tensions between President Salva Kiir Mayardit (an ethnic Dinka) and former vice president, Dr. Riek Machar Teny (an ethnic Nuer) sparked an outbreak of violence in Juba within the Presidential Guard unit. In the days that followed, violence engulfed the capital, causing widespread displacement of people of Nuer ethnicity from Juba. There are reports of abuses and targeting of civilians, which sparked cycles of violence among different ethnic groups, violence among armed groups aligned with government and opposition elements, and atrocities throughout the country. Reports indicate that RSS security forces conducted house to house searches and arrested hundreds of civilians in Juba and elsewhere. Witnesses claimed that some of those arrested were summarily shot in the street, while others were hauled to overcrowded jails. Within weeks, the violence had spread to six of the country's ten states.

Reports indicate both sides have committed mass atrocities. The violence has created a humanitarian disaster that, since December 2013, has left approximately thousands dead. More than 1.3 million people have been displaced internally and as refugees, and more than 2 million are in immediate need of humanitarian aid. The crisis that began in mid-December 2013 quickly pitted another amalgamation of irregular armed forces against government forces. The BBC reports that former Vice-President Machar presides over a loose alliance of military defectors, ethnic militias, warlords and other forces. The RSS signed a cessation of hostilities agreement with Machar's opposition delegation on January 23, 2014 and a re-commitment to this agreement on May 9, 2014, but within days clashes were again reported in many parts of the country. As of May 2014, South Sudan continued to experience sporadic clashes between the government and anti-government opposition forces. In a few months, South Sudan has come to the brink of civil war. After visiting South Sudan in mid-January 2014, UN Assistant Secretary-General for Human Rights Ivan Simonovic stated that, “one month of conflict has set South Sudan back a decade.”

There have been reports of mass, ethnically-targeted killings and atrocities by both parties to the conflict, including reports of mass killing of civilians. Insecurity due to ongoing fighting has led to continued population displacement. While humanitarian agencies continue to provide assistance to people displaced, the response is hampered by a number of factors related to insecurity and lack of infrastructure in South Sudan. As of May 2014, approximately 375,500 South Sudanese had fled to Ethiopia, Kenya, Sudan, and Uganda since December 15, 2013.

Population displacement and factors related to food insecurity—including drought, flooding, and rising food prices—continue to negatively impact the ongoing humanitarian crisis that has left much of South Sudan's population of 9.7 million in need of humanitarian assistance. As of May 2014, reports indicate an estimated 4 to 7 million people are in need of humanitarian assistance, including approximately 3 million people facing food shortages. Ongoing insecurity is hampering relief agencies' ability to provide assistance. Multiple factors reportedly impede delivery of humanitarian aid. Many areas of South Sudan are prone to seasonal flooding, with nearly 1.5 million people living in flood-risk areas, including approximately 1 million internally displaced persons as of May 30, 2014. According to OCHA, South Sudan's limited infrastructure, low supply of commercial transport assets, and current insecurity caused by ongoing violence, make South Sudan one of the most challenging and costly operating environments in the world.

Violence has worsened since the outbreak of the domestic conflict in December 2013. Several groups, including numerous militia groups, Sudanese rebel groups, and ethnically-based armed groups, continue to threaten the long-term security of the region. Violent conflict throughout much of South Sudan has led to continued internal displacement and refugee flow into neighboring countries. Due to the ongoing insecurity, the UN maintains a peacekeeping mission in South Sudan, as well as in the disputed border region of Abyei. On December 24, 2013, the UN Security Council voted to nearly double its peacekeeping force in South Sudan due to concerns about the deteriorating security and humanitarian crisis in the country.

Efforts by the international community to get aid to the civilian population continue to be severely compromised by weather-related factors, poor infrastructure, and threats to the safety of aid workers. Violence and ensuing population displacement, along with environmental and economic factors, have created one of the worst humanitarian crises in the world.

Based upon this review and after consultation with appropriate Government agencies, the Secretary finds that:

• The conditions that prompted the 2013 redesignation of South Sudan for TPS continue to be met. See INA section 244(b)(3)(A) and (C), 8 U.S.C. 1254a(b)(3)(A) and (C).

• There continues to be an armed conflict in South Sudan and, due to such conflict, requiring the return of South Sudanese nationals to South Sudan would pose a serious threat to their personal safety. See INA section 244(b)(1)(A), 8 U.S.C. 1254a(b)(1)(A).

• There continue to be extraordinary and temporary conditions in South Sudan that prevent South Sudanese nationals from returning to South Sudan in safety. See INA section 244(b)(1)(C), 8 U.S.C. 1254a(b)(1)(C).

• It is not contrary to the national interest of the United States to permit South Sudanese nationals (and persons who have no nationality who last habitually resided in South Sudan) who meet the eligibility requirements of TPS to remain in the United States temporarily. See INA section 244(b)(1)(C), 8 U.S.C. 1254a(b)(1)(C).

• The designation of South Sudan for TPS should be extended for an additional 18-month period from November 3, 2014 through May 2, 2016. See INA section 244(b)(3)(C), 8 U.S.C. 1254a(b)(3)(C).

• Based on current country conditions, South Sudan should be simultaneously redesignated for TPS effective November 3, 2014 through May 2, 2016. See INA sections 244(b)(1)(A), (b)(1)(C), and (b)(2); 8 U.S.C. 1254a(b)(1)(A), (b)(1)(C), and (b)(2).

• TPS applicants must demonstrate that they have continuously resided in the United States since September 2, 2014.

• The date by which TPS applicants must demonstrate that they have been continuously physically present in the United States is November 3, 2014, the effective date of the redesignation of South Sudan for TPS.

• There are approximately less than 20 current South Sudan TPS beneficiaries who are expected to apply for re-registration and may be eligible to retain their TPS under the extension.

• It is estimated that an additional 300 to 500 individuals may be eligible for TPS under the redesignation of South Sudan.

Notice of Extension of the TPS Designation of South Sudan and Redesignation of South Sudan for TPS

By the authority vested in me as Secretary under INA section 244, 8 U.S.C. 1254a, I have determined, after consultation with the appropriate Government agencies, that the conditions that prompted the redesignation of South Sudan for TPS in 2013 not only continue to be met, but have significantly deteriorated. See INA section 244(b)(3)(A), 8 U.S.C. 1254a(b)(3)(A). On the basis of these determinations, I am simultaneously extending the existing TPS designation of South Sudan for 18 months from November 3, 2014 through May 2, 2016, and redesignating South Sudan for TPS for the same 18-month period. See INA sections 244(b)(1)(A), (b)(1)(C), and (b)(2); 8 U.S.C. 1254a(b)(1)(A), (b)(1)(C), and (b)(2). I have also determined that eligible individuals must demonstrate that they have continuously resided in the United States since September 2, 2014. See INA section 244(c)(1)(A)(ii), 8 U.S.C. 1254a(c)(1)(A)(ii).

Jeh Charles Johnson,
Secretary.

I am currently a South Sudan TPS beneficiary. What should I do?

If you filed a TPS application during the South Sudan TPS registration period that ran from January 9, 2013 through July 8, 2013, and that application was approved prior to September 2, 2014, then you need to file a re-registration application under the extension if you wish to maintain TPS benefits through May 2, 2016. You must use the Application for Temporary Protected Status (Form I-821) to re-register for TPS. The 60-day open re-registration period will run from September 2, 2014 through November 3, 2014.

I have a pending initial TPS application filed during the South Sudan TPS registration period that ran from January 9, 2013 through July 8, 2013. What should I do?

If your TPS application is still pending on September 2, 2014, then you do not need to file a new Application for Temporary Protected Status (Form I-821). Pending TPS applications will be treated as initial applications under this re-designation. Therefore, if your TPS application is approved, you will be granted TPS through May 2, 2016. If you have a pending TPS application and you wish to have an EAD valid through May 2, 2016, please refer to Table 1 to determine whether you should file a new Application for Employment Authorization (Form I-765).

Table 1—Form and EAD Information for Pending TPS Applications
If . . . | And . . . | Then . . .
You requested an EAD during the previous initial registration period for South Sudan TPS | You received an EAD with Category C19 or A12 | You must file a new Application for Employment Authorization (Form I-765) with fee (or fee waiver request) if you wish to have a new EAD valid through May 2, 2016.
| You did not receive an EAD with Category C19 or A12 | You do not need to file a new Application for Employment Authorization (Form I-765). If your TPS application is approved, your Form I-765 will be approved through May 2, 2016.
You did not request an EAD during the previous initial registration period for South Sudan TPS | You wish to have an EAD valid through May 2, 2016 | You must file a new Application for Employment Authorization (Form I-765) with fee (or fee waiver request).
| You do not wish to have an EAD valid through May 2, 2016 | You do not need to file a new Application for Employment Authorization (Form I-765).

I am not a TPS beneficiary, and I do not have a TPS application pending. What are the procedures for initial registration for TPS under the South Sudan redesignation?

If you are not a South Sudan TPS beneficiary or do not have a pending TPS application with USCIS, you may submit your TPS application during the 180-day initial registration period that will run from September 2, 2014 through March 2, 2015.

Required Application Forms and Application Fees to Register or Re-register for TPS

To register or re-register for TPS for South Sudan, an applicant must submit each of the following two applications:

1. Application for Temporary Protected Status (Form I-821).

• If you are filing an initial application, you must pay the fee for the Application for Temporary Protected Status (Form I-821). See 8 CFR 244.2(f)(2) and 244.6 and information on initial filing on the USCIS TPS Web page at http://www.uscis.gov/tps.

• If you are filing an application for re-registration, you do not need to pay the fee for the Application for Temporary Protected Status (Form I-821). See 8 CFR 244.17.

and

2. Application for Employment Authorization (Form I-765).

• If you are applying for initial registration and want an EAD, you must pay the fee for the Application for Employment Authorization (Form I-765) only if you are age 14 through 65. No fee for the Application for Employment Authorization (Form I-765) is required if you are under the age of 14 or are 66 and older and applying for initial registration.

• If you are applying for re-registration, you must pay the fee for the Application for Employment Authorization (Form I-765) only if you want an EAD, regardless of age.

• You do not pay the fee for the Application for Employment Authorization (Form I-765) if you are not requesting an EAD, regardless of whether you are applying for initial registration or re-registration.

You must submit both completed application forms together. If you are unable to pay for the application and/or biometric services fee, you may apply for a fee waiver by completing a Request for Fee Waiver (Form I-912) or submitting a personal letter requesting a fee waiver, and by providing satisfactory supporting documentation. For more information on the application forms and fees for TPS, please visit the USCIS TPS Web page at http://www.uscis.gov/tps. Fees for the Application for Temporary Protected Status (Form I-821), the Application for Employment Authorization (Form I-765), and biometric services are also described in 8 CFR 103.7(b)(1)(i).

Biometric Services Fee

Biometrics (such as fingerprints) are required for all applicants 14 years of age or older. Those applicants must submit a biometric services fee. As previously stated, if you are unable to pay for the biometric services fee, you may apply for a fee waiver by completing a Request for Fee Waiver (Form I-912) or by submitting a personal letter requesting a fee waiver, and providing satisfactory supporting documentation. For more information on the biometric services fee, please visit the USCIS Web site at http://www.uscis.gov. If necessary, you may be required to visit an Application Support Center to have your biometrics captured.

Refiling an Initial TPS Application After Receiving a Denial of a Fee Waiver Request

If you request a fee waiver when filing your initial TPS application package and your request is denied, you may re-file your application packet before the initial filing deadline of March 2, 2015. If you submit your application with a fee waiver request before that deadline, but you receive a fee waiver denial and there are fewer than 45 days before the filing deadline (or the deadline has passed), you may still re-file your application within the 45-day period after the date on the USCIS fee waiver denial notice. Your application will not be rejected even if the filing deadline has passed, provided it is mailed within those 45 days and all other required information for the application is included. Note: If you wish, you may also wait to request an EAD and pay the Application for Employment Authorization (Form I-765) fee after USCIS grants you TPS, if you are found eligible. If you choose to do this, you would file the Application for Temporary Protected Status (Form I-821) with the fee and the Application for Employment Authorization (Form I-756) without fee and without requesting an EAD.

Re-Filing a TPS Re-Registration Application After Receiving a Denial of a Fee Waiver Request

USCIS urges all re-registering applicants to file as soon as possible within the 60-day re-registration period so that USCIS can process the applications and issue EADs promptly. Filing early will also allow those applicants who may receive denials of their fee waiver requests to have time to re-file their applications before the re-registration deadline. If, however, an applicant receives a denial of his or her fee waiver request and is unable to re-file by the re-registration deadline, the applicant may still re-file his or her application. This situation will be reviewed to determine whether the applicant has established good cause for late re-registration. However, applicants are urged to re-file within 45 days of the date on their USCIS fee waiver denial notice, if at all possible. See INA section 244(c)(3)(C); 8 U.S.C. 1254a(c)(3)(C); 8 CFR 244.17(c). For more information on good cause for late re-registration, visit the USCIS TPS Web page at http://www.uscis.gov/tps. Note: As previously stated, although a re-registering TPS beneficiary age 14 and older must pay the biometric services fee (but not the initial TPS application fee) when filing a TPS re-registration application, the applicant may decide to wait to request an EAD, and therefore not pay the Application for Employment Authorization (Form I-765) fee, until after USCIS has approved the individual's TPS re-registration, if he or she is eligible.

Mailing Information

Mail your application for TPS to the proper address in Table 2.

Table 2—Mailing Addresses
If . . . | Mail to . . .
You are applying through the U.S. Postal Service | USCIS, Attn: TPS South Sudan, P.O. Box 6943, Chicago, IL 60680-6943.
You are using a non-U.S. Postal Service delivery service | USCIS, Attn: TPS South Sudan, 131 S. Dearborn 3rd Floor, Chicago, IL 60603-5517.

If you were granted TPS by an Immigration Judge (IJ) or the Board of Immigration Appeals (BIA), and you wish to request an EAD, or are re-registering for the first time following a grant of TPS by an IJ or the BIA, please mail your application to the appropriate address in Table 1. Upon receiving a Notice of Action (Form I-797) from USCIS, please send an email to TPSijgrant.vsc@uscis.dhs.gov with the receipt number and state that you submitted a re-registration and/or request for an EAD based on an IJ/BIA grant of TPS. You can find detailed information on what further information you need to email and the email address on the USCIS TPS Web page at http://www.uscis.gov/tps.

E-Filing

You cannot electronically file your application when re-registering or submitting an initial registration for South Sudan TPS. Please mail your application to the mailing address listed in Table 2.

Employment Authorization Document (EAD)

May I request an interim EAD at my local USCIS office?

No. USCIS will not issue interim EADs to TPS applicants or re-registrants at local offices.

Am I eligible to receive an automatic 6-month extension of my current EAD through May 2, 2015?

Provided that you currently have TPS under the South Sudan designation, this Notice automatically extends your EAD by 6 months if you:

• Are a national of South Sudan (or an alien having no nationality who last habitually resided in South Sudan);

• Received an EAD under the last extension or redesignation of TPS for South Sudan; and

• Have an EAD with a marked expiration date of November 2, 2014, bearing the notation “A-12” or “C-19” on the face of the card under “Category.”

Although this Notice automatically extends your EAD through May 2, 2015, you must re-register timely for TPS in accordance with the procedures described in this Notice if you would like to maintain your TPS.

When hired, what documentation may I show to my employer as proof of employment authorization and identity when completing Employment Eligibility Verification (Form I-9)?

You can find a list of acceptable document choices on the “Lists of Acceptable Documents” for Employment Eligibility Verification (Form I-9). You can find additional detailed information on the USCIS I-9 Central Web page at http://www.uscis.gov/I-9Central. Employers are required to verify the identity and employment authorization of all new employees by using Employment Eligibility Verification (Form I-9). Within 3 days of hire, an employee must present proof of identity and employment authorization to his or her employer.

You may present any document from List A (reflecting both your identity and employment authorization), or one document from List B (reflecting identity) together with one document from List C (reflecting employment authorization). You may present an acceptable receipt for List A, List B, or List C documents as described in the Form I-9 Instructions. An EAD is an acceptable document under “List A.” Employers may not reject a document based on a future expiration date.

If your EAD has an expiration date of November 2, 2014, and states “A-12” or “C-19” under “Category,” it has been extended automatically for 6 months by virtue of this Federal Register Notice, and you may choose to present your EAD to your employer as proof of identity and employment authorization for Employment Eligibility Verification (Form I-9) through May 2, 2015 (see the subsection titled “How do my employer and I complete the Employment Eligibility Verification (Form I-9) using an automatically extended EAD for a new job?” for further information). To minimize confusion over this extension at the time of hire, you may also show your employer a copy of this Federal Register Notice confirming the automatic extension of employment authorization through May 2, 2015. As an alternative to presenting your automatically extended EAD, you may choose to present any other acceptable document from List A, or a combination of one selection from List B and one selection from List C.

What documentation may I show my employer if I am already employed but my current TPS-related EAD is set to expire?

Even though EADs with an expiration date of November 2, 2014, that state “A-12” or “C-19” under “Category” have been automatically extended for 6 months by this Federal Register Notice, your employer will need to ask you about your continued employment authorization once November 2, 2014, is reached to meet its responsibilities for Employment Eligibility Verification (Form I-9). However, your employer does not need a new document to reverify your employment authorization until May 2, 2015, the expiration date of the automatic extension. Instead, you and your employer must make corrections to the employment authorization expiration dates in Section 1 and Section 2 of Employment Eligibility Verification (Form I-9) (see the subsection titled “What corrections should my current employer and I make to Employment Eligibility Verification (Form I-9) if my EAD has been automatically extended?” for further information). In addition, you may also show this Federal Register Notice to your employer to explain what to do for Employment Eligibility Verification (Form I-9).

By May 2, 2015, the expiration date of the automatic extension, your employer must reverify your employment authorization. At that time, you must present any document from List A or any document from List C on Employment Eligibility Verification (Form I-9) to reverify employment authorization, or an acceptable List A or List C receipt described in the Form I-9 Instructions. Your employer should complete either Section 3 of the Employment Eligibility Verification (Form I-9) originally completed for the employee or, if this Section has already been completed or if the version of Employment Eligibility Verification (Form I-9) has expired (check the date in the upper right-hand corner of the form), complete Section 3 of a new Employment Eligibility Verification (Form I-9) using the most current version. Note that your employer may not specify which List A or List C document employees must present, and cannot reject an acceptable receipt.

Can my employer require that I produce any other documentation to prove my status, such as proof of my South Sudanese citizenship?

No. When completing Employment Eligibility Verification (Form I-9), including re-verifying employment authorization, employers must accept any documentation that appears on the “Lists of Acceptable Documents” for Employment Eligibility Verification (Form I-9) that reasonably appears to be genuine and that relates to you or an acceptable List A, List B, or List C receipt. Employers may not request documentation that does not appear on the “Lists of Acceptable Documents.” Therefore, employers may not request proof of South Sudanese citizenship when completing Employment Eligibility Verification (Form I-9) for new hires or reverifying the employment authorization of current employees. If presented with EADs that have been automatically extended, employers should accept such EADs as valid List A documents so long as the EADs reasonably appear to be genuine and to relate to the employee. Refer to the Note to Employees section of this Notice for important information about your rights if your employer rejects lawful documentation, requires additional documentation, or otherwise discriminates against you based on your citizenship or immigration status, or your national origin.

What happens after May 2, 2015, for purposes of employment authorization?

After May 2, 2015, employers may no longer accept the EADs that this Federal Register Notice automatically extended. Before that time, however, USCIS will issue new EADs to eligible TPS re-registrants who request them. These new EADs will have an expiration date of May 2, 2016, and can be presented to your employer for completion of Employment Eligibility Verification (Form I-9). Alternatively, you may choose to present any other legally acceptable document or combination of documents listed on the Employment Eligibility Verification (Form I-9).

How do my employer and I complete Employment Eligibility Verification (Form I-9) using an automatically extended EAD for a new job?

When using an automatically extended EAD to complete Employment Eligibility Verification (Form I-9) for a new job prior to May 2, 2015, you and your employer should do the following:

1. For Section 1, you should:

a. Check “An alien authorized to work”;

b. Write your alien number (USCIS number or A-number) in the first space (your EAD or other document from DHS will have your USCIS number or A-number printed on it; the USCIS number is the same as your A-number without the A prefix); and

c. Write the automatically extended EAD expiration date (May 2, 2015) in the second space.

2. For Section 2, employers should record the:

a. Document title;

b. Document number; and

c. Automatically extended EAD expiration date (May 2, 2015).

By May 2, 2015, employers must reverify the employee's employment authorization in Section 3 of the Employment Eligibility Verification (Form I-9).

What corrections should my current employer and I make to Employment Eligibility Verification (Form I-9) if my EAD has been automatically extended?

If you are an existing employee who presented a TPS-related EAD that was valid when you first started your job, but that EAD has now been automatically extended, you and your employer should correct your previously completed Employment Eligibility Verification (Form I-9) as follows:

1. For Section 1, you should:

a. Draw a line through the expiration date in the second space;

b. Write “May 2, 2015” above the previous date;

c. Write “TPS Ext.” in the margin of Section 1; and

d. Initial and date the correction in the margin of Section 1.

2. For Section 2, employers should:

a. Draw a line through the expiration date written in Section 2;

b. Write “May 2, 2015” above the previous date;

c. Write “TPS Ext.” in the margin of Section 2; and

d. Initial and date the correction in the margin of Section 2.

By May 2, 2015, when the automatic extension of EADs expires, employers must reverify the employee's employment authorization in Section 3.

If I am an employer enrolled in E-Verify, what do I do when I receive a “Work Authorization Documents Expiration” alert for an automatically extended EAD?

If you are an employer who participates in E-Verify and you have an employee who is a TPS beneficiary who provide a TPS-related EAD when he or she first started working for you, you will receive a “Work Authorization Documents Expiring” case alert when this EAD is about to expire. Usually, this message is an alert to complete Section 3 of the Employment Eligibility Verification (Form I-9) to reverify an employee's employment authorization. For existing employees with TPS-related EADs that have been automatically extended, employers should dismiss this alert by clicking the red “X” in the “dismiss alert” column and follow the instructions above explaining how to correct the Employment Eligibility Verification (Form I-9). By May 2, 2015, employment authorization must be reverified in Section 3. Employers should never use E-Verify for reverification.

Note To All Employers

Employers are reminded that the laws requiring proper employment eligibility verification and prohibiting unfair immigration-related employment practices remain in full force. This Notice does not supersede or in any way limit applicable employment verification rules and policy guidance, including those rules setting forth re-verification requirements. For general questions about the employment eligibility verification process, employers may call USCIS at 888-464-4218 (TTY for the hearing impaired is at 877-875-6028) or email USCIS at I-9Central@dhs.gov. Calls and emails are accepted in English and many other languages. For questions about avoiding discrimination during the employment eligibility verification process (I-9 and E-Verify), employers may also call the U.S. Department of Justice, Office of Special Counsel for Immigration-Related Unfair Employment Practices (OSC) Employer Hotline at 800-255-8155 (TTY 800-237-2515), which offers language interpretation in numerous languages, or email OSC at osccrt@usdoj.gov.

Note to Employees

For general questions about the employment eligibility verification process, employees may call USCIS at 888-897-7781 (TTY for the hearing impaired is at 877-875-6028) or email at I-9Central@dhs.gov. Calls are accepted in English, Spanish and many other languages. Employees or applicants may also call the OSC Worker Information Hotline at 800-255-7688 (TTY 800-237-2515) for information regarding employment discrimination based upon citizenship, immigration status, or national origin related to Employment Eligibility Verification (Form I-9) and E-Verify. The OSC Worker Information Hotline provides language interpretation in numerous languages.

To comply with the law, employers must accept any document or combination of documents from the List of Acceptable Documents if the documentation reasonably appears to be genuine and to relate to the employee, or an acceptable List A, List B, or List C receipt described in the Employment Eligibility Verification (Form I-9) Instructions. Employers may not require extra or additional documentation beyond what is required for Employment Eligibility Verification (Form I-9) completion. Further, employers participating in E-Verify who receive an E-Verify case result of “Tentative Nonconfirmation” (TNC) must promptly inform employees of the TNC and give such employees an opportunity to contest the TNC. A TNC case result means that the information entered into E-Verify from Employment Eligibility Verification (Form I-9) differs from the Social Security Administration, DHS, or DOS records. Employers may not terminate, suspend, delay training, withhold pay, lower pay or take any adverse action against an employee based on the employee's decision to contest a TNC or because the case is still pending with E-Verify. A Final Nonconfirmation (FNC) case result is received when E-Verify cannot verify an employee's employment eligibility. An employer may terminate employment based on a case result of FNC. Work-authorized employees who receive an FNC may call USCIS for assistance at 888-897-7781 (TTY for the hearing impaired is at 877-875-6028). To report an employer that discriminates against an employee in the E-Verify process based on citizenship or immigration status, or based on national origin, contact OSC's Worker Information Hotline at 800-255-7688 (TTY 800-237-2515). Additional information about proper nondiscriminatory Employment Eligibility Verification (Form I-9) and E-Verify procedures is available on the OSC Web site at http://www.justice.gov/crt/about/osc/ and the USCIS Web site at http://www.dhs.gov/E-verify.

Note Regarding Federal, State, and Local Government Agencies (Such as Departments of Motor Vehicles)

While Federal government agencies must follow the guidelines laid out by the Federal government, state and local government agencies establish their own rules and guidelines when granting certain benefits. Each state may have different laws, requirements, and determinations about what documents you need to provide to prove eligibility for certain benefits. Whether you are applying for a Federal, state, or local government benefit, you may need to provide the government agency with documents that show you are a TPS beneficiary and/or show you are authorized to work based on TPS. Examples are:

(1) Your unexpired EAD that has been automatically extended, or your EAD that has not expired;

(2) A copy of this Federal Register Notice if your EAD is automatically extended under this Notice;

(3) A copy of your Application for Temporary Protected Status Notice of Action (Form I-797) for this re-registration;

(4) A copy of your past or current Application for Temporary Protected Status Notice of Action (Form I-797), if you received one from USCIS; and/or

(5) If there is an automatic extension of work authorization, a copy of the fact sheet from the USCIS TPS Web site that provides information on the automatic extension.

Check with the government agency regarding which document(s) the agency will accept. You may also provide the agency with a copy of this Federal Register Notice.

Some benefit-granting agencies use the USCIS Systematic Alien Verification for Entitlements Program (SAVE) to verify the current immigration status of applicants for public benefits. If such an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request can be found at the SAVE Web site at http://www.uscis.gov/save, then by choosing “How to Correct Your Records” from the menu on the right.

[FR Doc. 2014-20709 Filed 8-29-14; 8:45 am]

BILLING CODE 9111-97-P